DELAWARE RIVER BASIN COMMISSION

18 CFR Parts 401 and 420

Regulatory Program Fees and Water Charges Rates

AGENCY: Delaware River Basin Commission.

ACTION: Final rule.

SUMMARY: Notice is provided of the Commission's regulatory program fees and schedule of water charges for the fiscal year beginning July 1, 2024.

DATES: This final rule is effective July 1, 2024.

FOR FURTHER INFORMATION CONTACT: Elba L. Deck, CPA, Director of Finance and Administration, (609) 477-7201.

SUPPLEMENTARY INFORMATION: The Delaware River Basin Commission (“DRBC” or “Commission”) is a Federal-interstate compact agency charged with managing the water resources of the Delaware River Basin on a regional basis without regard to political boundaries. Its members are the governors of the four basin states—Delaware, New Jersey, New York and Pennsylvania—and on behalf of the Federal Government, the North Atlantic Division Commander of the U.S. Army Corps of Engineers.

In accordance with 18 CFR 401.43(c), on July 1 of every year, the Commission's regulatory program fees as set forth in tables 1, 2 and 3 of that section are subject to an annual adjustment, commensurate with any increase in the annual April 12-month Consumer Price Index (CPI) for Philadelphia published by the U.S. Bureau of Labor Statistics during that year. Pursuant to 18 CFR 420.41(c), the same indexed adjustment applies to the Commission's schedule of water charges for consumptive and non-consumptive withdrawals of surface water within the basin. The referenced April 12-month CPI for 2024 showed an increase of 4.08%. Commensurate adjustments are thus required.

This document is made in accordance with 18 CFR 401.43(c) and 420.41(c), which provide that a revised fee schedule will be published in the Federal Register by July 1. The revised fees also may be obtained by contacting the Commission during business hours or by checking the Commission's website, www.drbc.gov.

List of Subjects

18 CFR Part 401

Administrative practice and procedure, Project review, Water pollution control, Water resources.

18 CFR Part 420

Water supply.

For the reasons set forth in the preamble, the Delaware River Basin Commission amends 18 CFR part 401 and 420 as set forth below:

PART 401—RULES OF PRACTICE AND PROCEDURE

1. The authority citation for part 401 continues to read as follows:

Authority: Delaware River Basin Compact (75 Stat. 688), unless otherwise noted.

2. In § 401.43, revise tables 1, 2 and 3 to read as follows:

§ 401.43 Regulatory program fees.

* * * * *

Table 1 to § 401.43—Docket Application Filing Fee
Project type | Docket application fee | Fee maximum
Water Allocation | $511 per million gallons/month of allocation,¹ not to exceed $19,171.¹ Fee is doubled for any portion to be exported from the basin | Greater of: $19,171 ¹ or Alternative Review Fee.
Wastewater Discharge | Private projects: $1,278; ¹ Public projects: $639 ¹ | Alternative Review Fee.
Other | 0.4% of project cost up to $10,000,000 plus 0.12% of project cost above $10,000,000 (if applicable), not to exceed $95,854 ¹ | Greater of: $95,854 ¹ or Alternative Review Fee.
¹ Subject to annual adjustment in accordance with paragraph (c) of this section.

Table 2 to § 401.43—Annual Monitoring and Coordination Fee
| Annual fee | Allocation
Water Allocation | ¹ $383 | <4.99 mgm.
| ¹ 575 | 5.00 to 49.99 mgm.
| ¹ 831 | 50.00 to 499.99 mgm.
| ¹ 1,054 | 500.00 to 9,999.99 mgm.
| ¹ 1,278 | > or = to 10,000 mgm.
| Annual fee | Discharge design capacity
Wastewater Discharge | ¹ $383 | <0.05 mgd.
| ¹ 780 | 0.05 to 1 mgd.
| ¹ 1,048 | 1 to 10 mgd.
| ¹ 1,278 | >10 mgd.
¹ Subject to annual adjustment in accordance with paragraph (c) of this section.

Table 3 to § 401.43—Additional Fees
Proposed action | Fee | Fee maximum
Emergency Approval Under 18 CFR 401.40 | $5,000 | Alternative Review Fee.
Late Filed Renewal Surcharge | $2,000
Modification of a DRBC Approval | At Executive Director's discretion, Docket Application Fee for the appropriate project type | Alternative Review Fee.
Name change | ¹ $1,278
Change of Ownership | ¹ $1,917
¹ Subject to annual adjustment in accordance with paragraph (c) of this section.

PART 420—BASIN REGULATIONS—WATER SUPPLY CHARGES

3. The authority citation for part 420 continues to read as follows:

Authority: Delaware River Basin Compact, 75 Stat. 688.

4. In § 420.41, revise paragraphs (a) and (b) to read as follows:

§ 420.41 Schedule of water charges.

* * * * *

(a) $102 per million gallons for consumptive use, subject to paragraph (c) of this section; and

(b) $1.02 per million gallons for non-consumptive use, subject to paragraph (c) of this section.

* * * * *

Dated: May 21, 2024.
Pamela M. Bush,
Assistant General Counsel and Commission Secretary.

[FR Doc. 2024-11661 Filed 5-28-24; 8:45 am]

BILLING CODE P